DEPARTMENT OF AGRICULTURE

Forest Service

Wasatch-Cache National Forest; Utah; Table Top Exploratory Oil Well

AGENCY: Forest Service, USDA.

ACTION: Notice of intent to prepare a supplemental environmental impact statement to the Table Top Exploratory Oil Well Project.

SUMMARY: The USDA Forest Service announces its intent to prepare a Supplemental Environmental Impact Statement (SEIS) to the Table Top Exploratory Oil Well Final Environment Impact Statement (FEIS). The Table Top Exploratory Oil Well FEIS evaluated alternatives for well pad locations, gravel sources, and associated road improvements in response to a Surface Use Plan of Operations to drill an exploratory oil well.

DATES: Scoping will not be conducted in accordance with 40 CFR 1502.9(c)(4). The draft supplemental environmental impact statement is expected in August 2004 and the final supplemental environmental impact statement is expected in December 2004.

ADDRESSES: Send written comments to Faye Krueger, Acting Forest Supervisor, Wasatch-Cache National Forest, 8236 Federal Building, 125 South State Street, Salt Lake City, Utah 84138.

FOR FURTHER INFORMATION CONTACT: Steve Ryberg, District Ranger, (307) 789-3194, Evanston Ranger District, P.O. Box 1880, Evanston, Wyoming, 82930.

SUPPLEMENTARY INFORMATION: On January 6, 1994, then Forest Supervisor Susan Giannettino made a decision to approve Chevron USA's proposal to construct and drill an exploratory oil well in the Main Fork Drainage on the Evanston Ranger District. Construction on the access road to the wellpad site began in September 1995. In October 1995 work stopped on construction because of frozen conditions Chevron withdrew as Unit Operator. Later Double Eagle was approved by the Bureau of Land Management (BLM) as Unit Operator and is the current proponent of the project. In 1997 a suspension of lease terms was requested which BLM did not grant. The decision was vacated by Interior Board of Land Appeals in April of 1999 and BLM granted a suspension retroactive to April 1996. The suspension request was based on nearby unleased lands being available for lease. The current suspension will terminate upon commencement of operations; one year after the effective date of newly issued Federal Leases resulting from the unleased lands being offered in a competitive sale; or when the authorized officer deems the suspension is no longer in the interest of conservation. Double Eagle has acquired the nearby unleased lands and is now ready to move forward.

New circumstances or information relevant to environmental concerns such as the recently revised 2003 Forest Plan and the listing of the Canada lynx as threatened by the Fish and Wildlife Service in 2000 have been identified. The SEIS will be limited in its scope and address environmental impacts directly related to the decision made in January 1994.

If a new decision is not needed following preparation of the supplemental environmental impact statement, the action is not subject to appeal in accordance with 36 CFR 215.12.

Cooperating Agency

The Bureau of Land Management, Utah State Office is a cooperating agency.

Responsible Official

Faye Krueger, Acting Forest Supervisor, 8236 Federal Building, 125 South State Street, Salt Lake City, Utah 84138.

Dated: April 27, 2004.
Faye Krueger,
Acting Forest Supervisor.

[FR Doc. 04-10166 Filed 5-4-04; 8:45 am]

BILLING CODE 3410-11-M